DEPARTMENT OF AGRICULTURE

Food and Nutrition Service

Agency Information Collection Activities: Proposed Collection; Comment Request—WIC Breastfeeding Policy Inventory

AGENCY: Food and Nutrition Service (FNS), USDA

ACTION: Notice and request for comments.

SUMMARY: In accordance with the Paperwork Reduction Act of 1995, this notice invites the general public and other public agencies to comment on this proposed collection. This is a new collection for the contract WIC Local Agency Breastfeeding Policy and Practices Inventory.

DATES: Written comments must be received by February 14, 2012.

ADDRESSES: Comments are invited on (a) whether the proposed data collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at (703) 305-2576 or via email to Steve.Carlson@ fns.usda.gov. Comments will also be accepted through the Federal eRulemaking Portal. Go to http://www.regulations.gov and follow the online instruction for submitting comments electronically.

All written comments will be open for public inspection at the office of the Food and Nutrition Service during regular business hours (8:30 a.m. to 5 p.m., Monday through Friday) at Room 1014, 3101 Park Center Drive, Alexandria, Virginia 22302.

All responses to this notice will be summarized and included in the request for Office of Management and Budget approval. All comments will also be a matter of public record.

FOR FURTHER INFORMATION CONTACT: Requests for additional information should be directed to Steven Carlson at (703) 305-2017.

SUPPLEMENTARY INFORMATION: Title: WIC Breastfeeding Policy Inventory.

OMB Number: 0584-NEW

Expiration Date: Not yet determined.

Type of Request: New information collection.

Abstract: The Special Supplemental Nutrition Program for Women, Infants, and Children (WIC) provides supplemental foods, health care referrals, and nutrition education to nutritionally at-risk, low-income pregnant women, new mothers, their infants, and children up to age five. The Program is administered through 90 State, territorial, and Indian tribal organization (ITO) agencies. These agencies oversee approximately 2,000 local WIC agencies, which in turn operate about 10,000 clinic sites. WIC clinics are the point of service for program participants.

Research has shown that there is no better food than breast milk for a baby's first year of life. Breastfeeding provides many health, nutritional, economic, and emotional benefits to both mother and baby. As a major goal of the WIC Program is to improve the nutritional status of infants, WIC mothers are encouraged to breastfeed their infants. In addition to increasing incentives for exclusive breastfeeding by providing fully breastfeeding mothers and infants with the most comprehensive food packages, the WIC program promotes breastfeeding through State and local agency policies and practices. These are designed to inform expectant and new mothers of the well-documented benefits of breastfeeding and, for those mothers that choose to breastfeed, to provide peer counseling and continued support through the infant's first year. This collection notice is for the WIC Breastfeeding Policy Inventory, which is being funded by FNS with the objective of assessing the types and diversity of policies and practices offered by local and State WIC agencies and their associations with agency-level breastfeeding outcomes.

To meet this study objective, FNS will collect data using a self-administered, Web-based survey of all State and local WIC agencies: 90 State agencies (including those of territories and ITOs) and 2,000 local WIC agencies. The survey will obtain a census of (1) all measures of breastfeeding that State and local WIC agencies currently collect, including their definitions and methods of collection, as well as the most recent values of those measures; (2) the data systems agencies use to store and process breastfeeding data and the types of information they report to other agencies or external organizations; and (3) breastfeeding policies and practices at State and local WIC agencies. The end products will give a comprehensive description of breastfeeding statistics, policies, and practices at the local and State WIC agency levels and demonstrate how breastfeeding outcomes (including initiation, duration, exclusivity, and intensity of breastfeeding), as well as policies and practices to promote breastfeeding, could be tracked over time on the local, State, and National levels.

Affected Public: Respondents will consist of WIC agency staff. Typically, the web-based survey will be completed by a single staff member, although multiple respondents may be used at some agencies. The amount of time to complete the survey, whether by one or more agency staff, is about the same. At both the State and local WIC agency levels, respondents are likely to be agency directors, breastfeeding coordinators, database managers, or staff members with equivalent titles.

Estimated Number of Respondents: The study will collect data from a total of 2,090 agencies which includes 90 State WIC agencies and 2,000 local WIC agencies.

Estimated Number of Responses per Respondent: The instrument will be administered once per respondent.

Estimated Total Annual Responses: 2,090.

Estimated Time per Respondent: For the Web-based survey, the burden estimate is 75 minutes for local WIC agency staff and 75 minutes for State WIC agency staff and is inclusive of the respondents' time to prepare for and complete the survey. For all persons who decline to participate in the survey, the burden estimate is 0.05 hours (3 minutes) and includes the respondents' time to read a letter.

Estimated Total Annual Burden on Respondents: 2,111 hours.

Respondent type | Number of respondents | Number of responses per respondent | Estimated total annual responses | Hours per response | Total hours
State WIC Agency Staff Member (Complete) | 72 | 1 | 72 | 1.25 | 90
State WIC Agency Staff Member (Attempted) | 18 | 1 | 18 | 0.05 | 1
Local WIC Agency Staff Member (Complete) | 1,600 | 1 | 1,600 | 1.25 | 2000
Local WIC Agency Staff Member (Attempted) | 400 | 1 | 400 | 0.05 | 20
Total Respondent Burden | 2,090 |  | 2,090 |  | 2,111

Dated: December 9, 2011.
Audrey Rowe,
Administrator, Food and Nutrition Service.

[FR Doc. 2011-32329 Filed 12-15-11; 8:45 am]

BILLING CODE 3410-30-P